DEPARTMENT OF THE INTERIOR

Bureau of Land Management

[LLCAN06000-L14300000-ET0000/CACA 54303]

Notice of Application for Withdrawal and Opportunity for Public Meeting; California

AGENCY: Bureau of Land Management, Interior.

ACTION: Notice.

SUMMARY: The United States Forest Service (USFS) filed an application with the Bureau of Land Management (BLM) requesting the Secretary of the Interior to withdraw approximately 541 acres of National Forest System lands in the Shasta-Trinity National Forest for a period of 20 years, from location and entry under the United States mining laws, but not from leasing under the mineral or geothermal leasing laws. The purpose of the withdrawal would be to protect the cultural, recreational, and biological resources within and along the Trinity River Wild and Scenic River (TRWSR) located in Trinity County, California. This notice temporarily segregates the lands from location and entry under the United States mining laws for up to 2 years while the withdrawal application is considered. This notice also gives the public an opportunity to comment on the withdrawal application and to request a public meeting.

DATES: Comments and/or requests for a public meeting should be received by November 19, 2013.

ADDRESSES: Comments and/or requests for a public meeting should be sent to California State Director, Bureau of Land Management, 2800 Cottage Way, Suite W1623, Sacramento, CA 95825-1886.

FOR FURTHER INFORMATION CONTACT: Elizabeth Easley, BLM California State Office, 916-978-4673, or Brenda Tracy, Shasta-Trinity National Forest Headquarters, 530-226-2500 during regular business hours, 8 a.m. to 4:30 p.m., Monday through Friday, except holidays. Persons who use a telecommunications device for the deaf (TDD) may call the Federal Information Relay Service (FIRS) at 1-800-877-8339 to contact the above individuals. The FIRS is available 24 hours a day, 7 days a week, to leave a message or question with the above individual. You will receive a reply during normal business hours.

SUPPLEMENTARY INFORMATION: The USFS has filed an application requesting that the Secretary of the Interior withdraw, subject to valid existing rights, the following described lands located in Trinity County, California, from location and entry under the United States mining laws, but not from leasing under the mineral or geothermal leasing laws, to protect the cultural, recreational, and biological resources within the TRWSR:

Mount Diablo Meridian

T. 33 N., R. 8 W.,

sec. 8, S½SW¼;

sec. 18, E½NE¼NE¼ and SE¼SE¼NE¼.

T. 32 N., R. 10 W.,

sec. 4, lot 4 except that portion in Mineral Entry Patent 28914 (described as the W½ of said lot 4), and SW¼NW¼;

sec. 5, lot 7 and SE¼NE¼.

T. 33 N., R. 10 W.,

sec. 29, lots 8, 9, 10, 15, and 18;

sec. 30, lots 7 and 8;

sec. 32, lots 12 and 14, W½NE¼NW¼, and W½SE¼NW¼.

The areas described aggregate 541 acres, more or less, in Trinity County, California.

The above-described lands being National Forest System lands, the Secretary shall make a withdrawal only with the consent of the head of department or agency administering these lands.

The use of a right-of-way, interagency agreement, or cooperative agreement would not adequately constrain non-discretionary uses and would not provide adequate protection of the resources within the TRWSR .

There are no suitable alternative sites with equal or greater benefit to the government.

No additional water rights will be needed to fulfill the purpose of the requested withdrawal.

The identification of mineral resources along the Trinity River indicates there is a high potential for the occurrence of placer gold and associated platinum group elements in the river alluvium. There is a moderate to high potential for commercial placer gold development. These alluvial gravel deposits, including the placer tailings, also have a moderate potential for development as sources of mineral materials. There are no other significant mineral occurrences or development potentials.

Records related to the application may be examined by contacting either of the above individuals listed above.

Comments or Requests for Public Meetings: For a period until November 19, 2013, all persons who wish to submit comments, suggestions, or objections in connection with the proposed withdrawal may present their views in writing to the BLM California State office at the address listed above.

Notice is also hereby given that the opportunity for a public meeting is afforded in connection with the proposed withdrawal. All interested parties who desire a public meeting for the purpose of being heard on the proposed withdrawal must submit a written request to the BLM California State Office at the address listed above by November 19, 2013.

If the BLM authorized officer determines that the BLM/FS will hold a public meeting, the BLM will publish a notice of the time and place in the Federal Register and a local newspaper at least 30 days before the scheduled date of the meeting.

Before including your address, phone number, email address, or other personal identifying information in your comment, you should be aware that your entire comment—including your personal identifying information—may be made publicly available at any time. Individuals that submit written comments may request confidentiality by asking us in your comment to withhold your personal identifying information from public review, however, we cannot guarantee that we will be able to do so.

Temporary Segregation: For a period until August 21, 2015, the National Forest System lands described in this notice will be segregated from location and entry under the United States mining laws, but not from leasing under the mineral or geothermal leasing laws, unless the application is denied or canceled or the withdrawal is approved prior to that date. The temporary land uses that may be permitted during the temporary segregation period include licenses, permits, rights of way, and disposal of vegetative resources other than under the mining laws.

The application will be processed in accordance with the regulations set forth in 43 CFR part 2300.

Cynthia Staszak,
Associate Deputy State Director, Natural Resources (CA930).

[FR Doc. 2013-20392 Filed 8-20-13; 8:45 am]

BILLING CODE 4310-40-P